DEPARTMENT OF THE INTERIOR

National Park Service

[N6882; NPS-WASO-NAGPRA-NPS0041880; PPWOCRADN0-PCU00RP14.R50000]

Notice of Intended Repatriation: Indiana University, Bloomington, IN

AGENCY: National Park Service, Interior.

ACTION: Notice.

SUMMARY: In accordance with the Native American Graves Protection and Repatriation Act (NAGPRA), Indiana University intends to repatriate certain cultural items that meet the definition of sacred objects and that have a cultural affiliation with the Indian Tribes or Native Hawaiian organizations in this notice.

DATES: Repatriation of the cultural items in this notice may occur on or after February 27, 2026.

ADDRESSES: Send additional, written requests for repatriation of the cultural items in this notice to Dr. Jayne-Leigh Thomas, Executive Director, Indiana University, Student Building 318, 701 E Kirkwood Avenue, Bloomington, IN 47405, email thomajay@iu.edu.

SUPPLEMENTARY INFORMATION: This notice is published as part of the National Park Service's administrative responsibilities under NAGPRA. The determinations in this notice are the sole responsibility of Indiana University and additional information on the determinations in this notice, including the results of consultation, can be found in the summary or related records. The National Park Service is not responsible for the determinations in this notice.

Abstract of Information Available

A total of two cultural items have been requested for repatriation. The two sacred objects are one ki'i akua and one lei niho palaoa. The ki'iakua was purchased from Christie's of London in 1980. It has been suggested that this figure was acquired by Andrew Bloxam of the HMS Blonde in 1825. This figure may have come from the site of Hale-o-Keawe near Kona, or purchased in Oahu. The lei niho palaoa was purchased in 1980 from Oceanie-Afrique Noire.

Determinations

Indiana University has determined that:

• The two sacred objects described in this notice are specific ceremonial objects needed by a traditional Native Hawaiian religious leader for present-day adherents to practice traditional Native Hawaiian religion, according to the Native Hawaiian traditional knowledge of a lineal descendant, Indian Tribe, or Native Hawaiian organization.

• There is a connection between the cultural items described in this notice and the Native Hawaiian Organization Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 27, 2026. If competing requests for repatriation are received, Indiana University must determine the most appropriate requestor prior to repatriation. Requests for joint repatriation of the cultural items are considered a single request and not competing requests. Indiana University is responsible for sending a copy of this notice to the Indian Tribes and Native Hawaiian organizations identified in this notice and to any other consulting parties.

Authority: Native American Graves Protection and Repatriation Act, 25 U.S.C. 3004 and the implementing regulations, 43 CFR 10.9.

Dated: January 15, 2026.
Melanie O'Brien,
Manager, National NAGPRA Program.

[FR Doc. 2026-01668 Filed 1-27-26; 8:45 am]

BILLING CODE 4312-52-P